DEPARTMENT OF TRANSPORTATION

Surface Transportation Board

[Docket Nos. AB 167 (Sub-No. 1193X); AB 55 (Sub-No. 730X); AB 290 (Sub No. 345X)]

Consolidated Rail Corporation, CSX Transportation, Inc., and Norfolk Southern Railway Company—Discontinuance Exemptions—in Monmouth County, N.J.

On March 19, 2013, Consolidated Rail Corporation (Conrail), CSX Transportation, Inc. (CSXT), and Norfolk Southern Railway Company (NSR) (collectively, applicants) jointly filed a verified notice of exemption under 49 CFR part 1152 subpart F—Exempt Abandonments and Discontinuances of Service for each carrier to discontinue service over an approximately 5.10-mile line of railroad extending from milepost 19.30± to milepost 24.40±, in Monmouth County, N.J. The line traverses United States Postal Service Zip Codes 07727 and 07728.

Applicants have certified that: (1) No local or overhead traffic has moved over the line for at least two years; (2) any overhead traffic that has moved or could move over the line can be rerouted; (3) no formal complaint filed by a user of rail service on the line (or by a state or local government entity acting on behalf of such user) regarding cessation of service over the line either is pending with the Surface Transportation Board or with any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective on May 8, 2013, unless stayed pending reconsideration. Petitions to stay that do not involve environmental issues and formal expressions of intent to file an OFA to subsidize continued rail service under 49 CFR 1152.27(c)(2) ¹ must be filed by April 18, 2013.² Petitions to reopen must be filed by April 29, 2013, with the Surface Transportation Board, 395 E Street SW., Washington, DC 20423-0001.

¹ Each OFA must be accompanied by the filing fee, which is currently set at $1,600. See 49 CFR 1002.2(f)(25).

² Because applicants are seeking to discontinue service, not to abandon the line, trail use/rail banking and public use conditions are not appropriate. Likewise, no environmental or historic documentation is required here under 49 CFR 1105.6(c) and 49 CFR 1105.8(b), respectively.

A copy of any petition filed with the Board should be sent to the applicants' representative: Benjamin C. Dunlap, Jr., Nauman, Smith, Shissler and Hall, LLP, 200 North Third Street, 18th Floor, Harrisburg, PA 17101.

If the notice contains false or misleading information, the exemption is void ab initio.

Board decisions and notices are available on our Web site at “www.stb.dot.gov.”

Decided: April 2, 2013.
By the Board, Rachel D. Campbell, Director, Office of Proceedings.
Raina S. White,
Clearance Clerk.

[FR Doc. 2013-08151 Filed 4-5-13; 8:45 am]

BILLING CODE 4915-01-P